SURFACE TRANSPORTATION BOARD

[Docket No. EP 751]

Materials Due To Be Submitted During the Federal Government Shutdown

AGENCY: Surface Transportation Board.

ACTION: Notice.

SUMMARY: The Board provides notice that any material due to be submitted to the Board during the Federal government shutdown period (including comments on environmental documents) will now be due no later than February 6, 2026, unless otherwise ordered by the Board. Filings (including recordations) that were submitted during the shutdown will be considered filed on February 4, 2026, provided all filing requirements have been met.

DATES: This notice is applicable February 4, 2026.

FOR FURTHER INFORMATION CONTACT: Scott Zimmerman, (202) 245-0386. If you require accommodation under the Americans with Disabilities Act, please call (202) 245-0245.

SUPPLEMENTARY INFORMATION: By decision served February 2, 2026, all deadlines for the submission of pleadings, filings, comments (including environmental comments) and other material due to be submitted during the lapse in Board appropriations in effect that day were tolled. The Board is now providing notice that any material due to be submitted to the Board during the shutdown period (January 31, 2026, through February 3, 2026) will now be due no later than February 6, 2026, unless otherwise ordered by the Board.

Should a party to a proceeding believe that further modification to a procedural schedule is necessary, the party should request an extension in that case docket. Materials submitted during the shutdown should not be resubmitted. All filings (including recordations) submitted during the shutdown will be considered filed on February 4, 2026, provided all filing requirements have been met.

Decided: February 4, 2026.
By the Board, Anika S. Cooper, Chief Counsel, Office of Chief Counsel.
Jeffrey Herzig,
Clearance Clerk.

[FR Doc. 2026-02452 Filed 2-5-26; 8:45 am]

BILLING CODE 4915-01-P